DEPARTMENT OF TRANSPORTATION

Federal Aviation Administration

14 CFR Part 71

[Docket No. FAA-2025-0371 Airspace Docket No. 25-ANM-128]

RIN 2120-AA66

Revocation of Jet Route J-534 and Very High Frequency Omnidirectional Range (VOR) Federal Airway V-349, Amendment of VOR Federal Airways V-23 and V-165 and Establishment of Canadian Area Navigation (RNAV) Route T-645 in Northwestern United States

AGENCY: Federal Aviation Administration (FAA), DOT.

ACTION: Notice of proposed rulemaking (NPRM).

SUMMARY: This action proposes to revoke Jet Route J-534 and Very High Frequency Omnidirectional Range (VOR) Federal Airway V-349, amend VOR Federal Airways V-23 and V-165, and establish Canadian Area Navigation (RNAV) Route T-645 in the Northwestern United States. The FAA is proposing this action due to the pending decommissioning of the VOR portion of the Whatcom, WA, VOR/Tactical Air Navigation (VORTAC) navigational aid (NAVAID). The VOR portion of the Whatcom VORTAC is being decommissioned in support of the FAA's VOR Minimum Operational Network (MON) program. There are two airways that use the naming convention of V-23. One is located in the state of Hawaii and the other is located in the state of California. This action proposes to affect the V-23 in the state of California and does not propose any changes to the V-23 in the state of Hawaii.

DATES: Comments must be received on or before April 21, 2025.

ADDRESSES: Send comments identified by FAA Docket No. FAA-2025-0371 and Airspace Docket No. 25-ANM-128 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington DC, 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

Jet Routes are published in paragraph 2004, VOR Federal Airways are published in paragraph 6010, and Canadian Navigation Routes are published in paragraph 6013 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the VOR portion of the Whatcom, WA, VORTAC. The Whatcom VOR is one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Whatcom VORTAC is planned for decommissioning, the co-located Tactical Air Navigation (TACAN) portion of the navigational aid is being retained. The TACAN would continue to provide navigational service for military operations and Distance Measuring Equipment (DME) service supporting current and future NextGen PBN flight procedure requirements.

The Air Traffic Service routes affected by the planned decommissioning of the Whatcom VOR are J-534, V-349, V-23, and V-165. There are two airways that use the naming convention of V-23. One is located in the state of Hawaii and the other is located in the state of California. This action proposes to affect the V-23 in the state of California and does not propose any changes to the V-23 in the state of Hawaii. The FAA is proposing to revoke J-534 and V-349 in their entirety. The FAA is also proposing to amend V-23 and V-165 and to establish RNAV Route T-645. To mitigate the loss of Jet Route J-534, aircraft can use nearby J-52 or RNAV Route Q-140. VOR Federal Airway V-349 currently extends three nautical miles (NM) within United States airspace and provides routing to the United States and Canadian border. Aircraft can utilize nearby RNAV Route T-355 to navigate from the Whatcom area to the United States and Canadian border. Portions of V-23 and V-165 will become unusable due to the decommissioning of the Whatcom VOR. The FAA is proposing to amend V-23 by revoking the segment that extends between the Paine, WA, VOR/DME and the Whatcom VORTAC. To mitigate the loss of this segment, the FAA is establishing a new route point, SAWVY, WA, waypoint (WP) to be located at the intersection of RNAV Routes T-487 and T-355. The addition of this route point will enable aircraft to transition between these two airways. The FAA is proposing to amend V-165 by revoking the segment that extends between the Penn Cove, WA, VOR/DME and the Whatcom VORTAC. T-355 serves as a mitigation to the loss of this route segment. The FAA is also proposing to establish Canadian RNAV Route T-645 within United States airspace. This route would extend between the new EPSOP, WA, WP, located on the United States and Canadian border, approximately three NM southwest of the TECUV, WA, Fix and the new IKLIT, WA, WP, located on the United States and Canadian border, approximately 15 NM northeast of the Whatcom, WA, TACAN. NAV CANADA will establish this route within their airspace and will connect their portion to the aforementioned points on the United States and Canadian border.

The Proposal

The FAA is proposing an amendment to 14 CFR part 71 to revoke Jet Route J-534 and VOR Federal Airway V-349, amend VOR Federal Airways V-23 and V-165, and establish Canadian Area Navigation Route T-645 in Northwestern United States. There are two airways that use the naming convention of V-23. One is located in the state of Hawaii and the other is located in the state of California. This action proposes to affect the V-23 in the state of California and does not propose any changes to the V-23 in the state of Hawaii. The FAA is proposing these actions due to the pending decommissioning of the VOR portion of the Whatcom, WA, VORTAC. The VOR portion of the Whatcom VORTAC is being decommissioned in support of the FAA's VOR MON program.

J-534: J-534 currently extends between the intersection of the Seattle, WA, VORTAC 033° and the Whatcom, WA, VORTAC, 090° radials and Williams Lake, BC, Canada, VORTAC, excluding the airspace within Canada. The FAA is proposing to revoke J-534 in its entirety.

V-349: V-349 currently extends between the Whatcom, WA, VORTAC and Williams Lake, BC, Canada, VORTAC, excluding the airspace within Canada. The FAA is proposing to revoke V-349 in its entirety.

V-23: V-23 in the state of California, currently extends between the Mission Bay, CA, VORTAC and the United States and Canadian border via the Whatcom, WA, VORTAC 290° radial. The FAA is proposing to amend V-23 by revoking the segment that extends between the Paine, WA, VOR/DME and the Whatcom VORTAC. As amended, V-23 in the state of California would extend between the Mission Bay VORTAC and the Paine VOR/DME.

V-165: V-165 currently extends between the Mission Bay, CA, VORTAC and the Whatcom, WA, VORTAC. The FAA is proposing to amend V-165 by revoking the segment that extends between the Penn Cove, WA, VOR/DME and the Whatcom VORTAC. As amended, V-165 would extend between the Mission Bay VORTAC and the Penn Cove VOR/DME.

T-645: T-645 is being proposed as a new RNAV route to serve as an additional mitigation to the aforementioned proposed airspace actions. T-645 would extend between the EPSOP, WA, WP and the IKLIT, WA, WP.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-534 [Removed]

* * * * *

Paragraph 6010(a) Domestic VOR Federal Airways.

* * * * *

V-349 [Removed]

* * * * *

V-23 [Amended]

From Mission Bay, CA; Oceanside, CA; 24 miles, six miles wide, Seal Beach, CA; six miles wide, INT Seal Beach 287° and Los Angeles, 138° radials; Los Angeles; Gorman, CA; Shafter, CA; to INT Shafter 338° and Panoche 096° radials. From INT Panoche 035° and Linden 141° radials; Linden, CA; Sacramento, CA; INT Sacramento 346° and Red Bluff, CA, 158° radials; Red Bluff; 58 miles, 95 MSL, Fort Jones, CA; Rogue Valley, OR; Eugene, OR; Battle Ground, WA; INT Battle Ground 350° and Seattle, WA, 197° radials; 21 miles, 45 MSL, Seattle; Paine, WA.

* * * * *

V-165 [Amended]

From Mission Bay, CA; INT Mission Bay 270° and Oceanside, CA, 177° radials; Oceanside; 24 miles, 6 miles wide, Seal Beach, CA; 6 miles wide, INT Seal Beach 287° and Los Angeles, CA, 138° radials; Los Angeles; INT Los Angeles 357° and Lake Hughes, CA, 154° radials; Lake Hughes; INT Lake Hughes 344° and Shafter, CA, 137° radials; Shafter; Tule, CA; INT Tule 339° and Avenal, CA, 042° radials. From INT Squaw Valley, CA 133° and Mustang, NV, 183° radials; 72 miles, 50 miles, 131 MSL, Mustang, NV; 40 miles, 12 AGL, 7 miles, 115 MSL, 54 miles, 135 MSL, 81 miles, 12 AGL, Lakeview, OR; 5 miles, 72 miles, 90 MSL, Deschutes, OR; 16 miles, 19 miles, 95 MSL, 24 miles, 75 MSL, 12 miles, 65 MSL, Newberg, OR; 32 miles, 45 MSL, INT Newberg 355° and Olympia, WA, 195° radials; Olympia; Penn Cove, WA.

* * * * *

Paragraph 6013 Canadian Area Navigation Routes.

* * * * *

T-645 EPSOP, WA to IKLIT, WA [New]
EPSOP, WA | WP | (Lat. 48°49′55.86″ N, long. 123°00′36.81″ W)
ITGIL, WA | WP | (Lat. 48°55′50.99″ N, long. 122°25′36.90″ W)
VOGAD, WA | WP | (Lat. 48°57′21.70″ N, long. 122°16′28.81″ W)
IKLIT, WA | WP | (Lat. 49°00′08.80″ N, long. 122°12′49.06″ W)

* * * * *

Issued in Washington, DC, on February 28, 2025.
Brian Eric Konie,
Manager (A), Rules and Regulations Group.

[FR Doc. 2025-03574 Filed 3-5-25; 8:45 am]

BILLING CODE 4910-13-P